DEPARTMENT OF TRANSPORTATION

Maritime Administration

Assistance to Small Shipyards Grant Program

AGENCY: Maritime Administration, Department of Transportation, Office of Shipyards and Marine Technology.

ACTION: Notice of Small Shipyard Grant Program.

Catalog of Federal Domestic Assistance Number: 20.814.

FOR FURTHER INFORMATION CONTACT: Jean E. McKeever, Associate Administrator for Business and Workforce Development, Maritime Administration, 1200 New Jersey Ave., SE., Washington, DC 20590; phone: (202) 366-5737; fax: (202) 366-6988; or e-mail: jean.mckeever@dot.gov.

Key Dates: The period for submitting grant applications, as mandated by statute, commenced on February 17, 2009 and will terminate on April 20, 2009. The applications must be received by the Maritime Administration by 5 p.m. EST on April 20, 2009. Applications received later than this time will not be considered. The Maritime Administrator intends to award grants no later than August 17, 2009.

Funding Opportunity: Section 3508 of the National Defense Authorization Act for Fiscal Year 2009 (Pub. L. 110-417) and the section entitled “Supplemental Grants for Assistance to Small Shipyards” in the American Recovery and Reinvestment Act, 2009, provide that the Maritime Administration shall establish an assistance program for small shipyards. Under this program, there is currently an aggregate of $98,000,000 available for grants for capital improvements, and related infrastructure improvements at qualified shipyard facilities that will be effective in fostering efficiency, competitive operations, and quality ship construction, repair, and reconfiguration. ($2,000,000 of the $100,000,000 appropriated for the program is reserved for program administration.) Such grants may not be used to construct buildings or other physical facilities or to acquire land unless such use is specifically approved by the Administrator as being consistent with and supplemental to capital and related infrastructure improvements. Grant funds may also be used for maritime training programs to foster technical skills and operational productivity in communities whose economies are related to or dependent upon the maritime industry. However, grants for such training programs may only be awarded to “Eligible Applicants” as described below but training programs can be established through vendors to such applicants.

Award Information: The Maritime Administration intends to award the full amount of the available funding through grants to the extent that there are worthy applications. No more than 25 percent of the funds available will be awarded to shipyard facilities that have more than 600 production employees. The Maritime Administration will seek to obtain the maximum benefit from the available funding by awarding grants for as many of the most worthy projects as possible. The Maritime Administration may partially fund projects by selecting parts of the total project. The start date and period of performance for each award will depend on the specific project and must be agreed to by the Maritime Administration.

Eligibility Information: 1. Eligible Applicants—the statutes referenced in “Funding Opportunity” above provide that shipyards can apply for grants. The shipyard facility for which a grant is sought must be in a single geographical location, located in or near a maritime community, and may not have more than 1200 production employees. 2. Other Considerations in Making Awards—In providing grants, the Administrator shall take into account (a) the economic circumstances and conditions of the maritime community near to which a shipyard facility is located; (b) projects that would be effective in fostering efficiency, competitive operations, and quality ship construction, repair, and reconfiguration; and (c) projects that would be effective in fostering employee skills and enhancing productivity.

Matching Requirements: (1) Except as provided in item (2) below, Federal funds for any eligible project shall not exceed 75 percent of the total cost of such project. The remaining portion of the cost shall be paid in funds from or on behalf of the awardee. The applicant will be required to submit detailed financial statements and any necessary supporting documentation demonstrating how and when such matching requirement is proposed to be funded. (2) Exceptions—If the Administrator determines that a proposed project merits support and cannot be undertaken without a higher percentage of Federal financial assistance, the Administrator may award a grant for such project with a lesser matching requirement than is described in item (1). (3) Unless waived for good cause, the awardee's matching requirement must be paid prior to payment of any federal funds for the project.

Application: An application should be filed on standard Form SF-424 which can be found on the internet at Marad.dot.gov. Although the form is available electronically, we request that the application be filed in hard copy as indicated below due to the amount of information requested. A shipyard facility may include multiple projects in one application. In order to allow us to evaluate whether an applicant meets the statutory criteria, the application for a grant should also provide the following information as an addendum to Form SF-424:

1. Unique identifier of entity's parent company (when applicable): Data Universal Numbering System (DUNS + 4 number) (when applicable).

2. Shipyard company officer's certification as to shipyard's compliance with the following requirements: (a) The shipyard facility for which a grant is sought is located in a single geographical location in or near a maritime community and (b)(i) The shipyard facility has no more than 600 production employees, or (ii) The shipyard facility has more than 600 production employees, but less than 1200 production employees.

3. A comprehensive detailed description of the project.

4. A description of the need for the project and an explanation of how the project will fulfill this need.

5. An analysis demonstrating how the project will be effective in fostering efficiency, competitive operations, and quality ship construction, repair, or reconfiguration.

6. A detailed itemization of the cost of the project together with supporting documentation, including vendor quotes and installation costs.

7. Detailed methodology and timeline for implementing the project.

8. A prioritized list of project elements and cost of each if funding for entire project is not available.

9. Most recent CPA audited, reviewed or compiled financial statements.

10. Detailed pro forma financial statements together with any supporting documentation demonstrating how and when such matching requirement is proposed to be funded.

11. Shipyard company officer's certification that the grant recipient has the authority to carry out the proposed project.

12. Any existing programs or arrangements that can be used to supplement or leverage the federal grant assistance.

13. Information concerning the economic circumstances and conditions of the maritime community near to which the shipyard is located.

14. Certification in accordance with the Department of Transportation's regulation restricting lobbying, 49 CFR part 20, that the applicant has not, and will not, make any prohibited payments out of the requested grant.

Additional information may be requested as deemed necessary by the Maritime Administration in order to facilitate and complete its review of the application. If such information is not provided, the Maritime Administration may deem the application incomplete and cease processing it.

Where to File Application: An original copy of the application together with seven additional copies shall be submitted to Jean E. McKeever, Associate Administrator for Business and Workforce Development, Room W21-318, Maritime Administration, 1200 New Jersey Ave., SE., Washington, DC 20590.

Evaluation of Applications: The Administrator will evaluate the applications on the basis of the economic information provided and in terms of how well the project for which a grant is requested would be effective in fostering efficiency, competitive operations, and quality ship construction, repair, and reconfiguration. The Administrator will award grants in his sole discretion in such amounts and under such conditions for those projects he determines will best further the statutory purposes of the small shipyard grant program.

Conditions Attached To Awards: The grant agreement will set out the records to be maintained by the awardee which must be available for review and audit by the Administrator, as well as any other conditions and requirements. Please note that the awardee will be required to submit periodic reports to include, among other things, the number of direct, on-project jobs created or sustained by the award, and to the extent possible, the estimated indirect jobs created or sustained in the associated supplying industries, including the number of job-years created and the total increase in employment since the date of enactment of the American Recovery and Reinvestment Act of 2009.

(Authority: 46 U.S.C. 54101; 49 CFR 1.66)

By Order of the Acting Deputy Maritime Administrator.
Dated: February 26, 2009.
Leonard Sutter,
Secretary, Maritime Administration.

.

[FR Doc. E9-4532 Filed 3-3-09; 8:45 am]

BILLING CODE 4910-81-P